DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Date of modification | Community No.
Colorado:
Douglas (FEMA Docket No.: B-1816) | Town of Castle Rock (17-08-1320P) | The Honorable Jennifer Green, Mayor, Town of Castle Rock, 100 North Wilcox Street, Castle Rock, CO 80104 | Utilities Department, 175 Kellogg Court, Castle Rock, CO 80104 | June 1, 2018 | 080050
Douglas (FEMA Docket No.: B-1816) | Unincorporated areas of Douglas County (17-08-1320P) | The Honorable Roger Partridge, Chairman, Douglas County Board of Commissioners, 100 3rd Street, Castle Rock, CO 80104 | Douglas County Planning Department, 100 3rd Street, Castle Rock, CO 80104 | June 1, 2018 | 080049
Jefferson (FEMA Docket No.: B-1816) | City of Westminster (17-08-1102P) | The Honorable Herb Atchison, Mayor, City of Westminster, 4800 West 92nd Avenue, Westminster, CO 80031 | City Hall, 4800 West 92nd Avenue, Westminster, CO 80031 | June 8, 2018 | 080008
Connecticut:
Fairfield (FEMA Docket No.: B-1816) | City of Norwalk (17-01-2751P) | The Honorable Harry W. Rilling, Mayor, City of Norwalk, 125 East Avenue, Norwalk, CT 06851 | Planning and Zoning Department, 125 East Avenue, Norwalk, CT 06851 | May 29, 2018 | 090012
Fairfield (FEMA Docket No.: B-1816) | Town of Trumbull (17-01-1576P) | The Honorable Vicki A. Tesoro, First Selectman, Town of Trumbull Board of Selectmen, 5866 Main Street, Trumbull, CT 06611 | Town Hall, 5866 Main Street, Trumbull, CT 06611 | June 1, 2018 | 090017
Delaware: Kent (FEMA Docket No.: B-1810) | City of Dover (17-03-0901P) | The Honorable Robin R. Christiansen, Mayor, City of Dover, P.O. Box 475, Dover, DE 19903 | Department of Planning and Inspection, 15 Lookerman Plaza, Dover, DE 19901 | June 4, 2018 | 100006
Florida:
Duval (FEMA Docket No.: B-1816) | City of Jacksonville (17-04-6148P) | The Honorable Lenny Curry, Mayor, City of Jacksonville, 117 West Duval Street, Suite 400, Jacksonville, FL 32002 | Development Services Department, 214 North Hogan Street, Suite 2100, Jacksonville, FL 32002 | May 29, 2018 | 120077
Lee (FEMA Docket No.: B-1816) | Town of Fort Myers Beach (17-04-7870P) | The Honorable Dennis C. Boback, Mayor, Town of Fort Myers Beach, 2525 Estero Boulevard, Fort Myers Beach, FL 33931 | Community Development Department, 2525 Estero Boulevard, Fort Myers Beach, FL 33931 | June 7, 2018 | 120673
Manatee (FEMA Docket No.: B-1816) | City of Bradenton Beach (18-04-0582P) | The Honorable John Chappie, Mayor, City of Bradenton Beach, 107 Gulf Drive North, Bradenton Beach, FL 34217 | Building and Planning Department, 107 Gulf Drive North, Bradenton Beach, FL 34217 | June 6, 2018 | 125091
Pasco (FEMA Docket No.: B-1816) | City of Port Richey (18-04-0510P) | The Honorable Dale Massad, Mayor, City of Port Richey, 6333 Ridge Road, Port Richey, FL 34668 | Building and Development Services Department, 6333 Ridge Road, Port Richey, FL 34668 | May 31, 2018 | 120234
Georgia:
Douglas (FEMA Docket No.: B-1816) | City of Douglasville (17-04-6806P) | The Honorable Rochelle Robinson, Mayor, City of Douglasville, 6695 Church Street, Douglasville, GA 30134 | City Hall, 6695 Church Street, Douglasville, GA 30134 | June 4, 2018 | 130305
Douglas (FEMA Docket No.: B-1816) | Unincorporated areas of Douglas County (17-04-6806P) | The Honorable Ramona Jackson Jones, Chairman, Douglas County Board of Commissioners, 8700 Hospital Drive, Douglasville, GA 30134 | Douglas County Development Services Department, 8700 Hospital Drive, Douglasville, GA 30134 | June 4, 2018 | 130306
Kentucky: Fayette (FEMA Docket No.: B-1816) | Lexington-Fayette Urban County Government (18-04-0043P) | The Honorable Jim Gray, Mayor, Lexington-Fayette Urban County Government, 200 East Main Street, Lexington, KY 40507 | LFUCG Phoenix Building, 101 East Vine Street, Lexington, KY 40507 | June 7, 2018 | 210067
Montana: Big Horn (FEMA Docket No.: B-1810) | Unincorporated areas of Big Horn County (17-08-0336P) | The Honorable Chad Fenner, Chairman, Big Horn County Board of Commissioners, P.O. Box 908, Hardin, MT 59034 | Big Horn County Health Department, 809 North Custer Avenue, Hardin, MT 59034 | June 1, 2018 | 300143
Oklahoma: Tulsa (FEMA Docket No.: B-1816) | City of Tulsa (18-06-0209P) | The Honorable G.T. Bynum, Mayor, City of Tulsa, 175 East 2nd Street, 15th Floor, Tulsa, OK 74103 | Planning and Development Department, 175 East 2nd Street, 4th Floor, Tulsa, OK 74103 | May 29, 2018 | 405381
South Carolina:
Richland (FEMA Docket No.: B-1816) | City of Columbia (17-04-5518P) | The Honorable Stephen K. Benjamin, Mayor, City of Columbia, P.O. Box 147, Columbia, SC 29217 | Department of Utilities and Engineering, 1136 Washington Street, Columbia, SC 29201 | May 29, 2018 | 450172
Richland (FEMA Docket No.: B-1816) | City of Forest Acres (17-04-5518P) | The Honorable Frank Brunson, Mayor, City of Forest Acres, 5209 North Trenholm Road, Forest Acres, SC 29206 | City Hall, 5209 North Trenholm Road, Forest Acres, SC 29206 | May 29, 2018 | 450174
Texas:
Bell (FEMA Docket No.: B-1816) | City of Belton (17-06-2281P) | The Honorable Marion Grayson, Mayor, City of Belton, P.O. Box 120, Belton, TX 76513 | City Hall, 333 Water Street, Belton, TX 76513 | June 8, 2018 | 480028
Bexar (FEMA Docket No.: B-1816) | City of San Antonio (17-06-2974P) | The Honorable Ron Nirenberg, Mayor, City of San Antonio, P.O. Box 839966, San Antonio, TX 78283 | Transportation and Capital Improvements Department, Storm Water Division, 1901 South Alamo Street, 2nd Floor, San Antonio, TX 78204 | June 6, 2018 | 480045
Dallas (FEMA Docket No.: B-1816) | City of Dallas (17-06-3383P) | The Honorable Michael S. Rawlings, Mayor, City of Dallas, 1500 Marilla Street, Suite 5EN, Dallas, TX 75201 | Floodplain Management Department, 320 East Jefferson Boulevard, Room 301, Dallas, TX 75203 | May 29, 2018 | 480171
Dallas (FEMA Docket No.: B-1816) | City of Farmers Branch (17-06-3383P) | The Honorable Robert C. Dye, Mayor, City of Farmers Branch, 13000 William Dodson Parkway, Farmers Branch, TX 75234 | City Hall, 13000 William Dodson Parkway, Farmers Branch, TX 75234 | May 29, 2018 | 480174
Ellis (FEMA Docket No.: B-1816) | City of Waxahachie (17-06-1666P) | The Honorable Kevin Strength, Mayor, City of Waxahachie, 401 South Rogers Street, Waxahachie, TX 75165 | Public Works Department, 401 South Rogers Street, Waxahachie, TX 75165 | May 31, 2018 | 480211
Ellis (FEMA Docket No.: B-1816) | Unincorporated areas of Ellis County (17-06-1666P) | The Honorable Carol Bush, Ellis County Judge, 101 West Main Street, Waxahachie, TX 75165 | Ellis County Courthouse, 101 West Main Street, Waxahachie, TX 75165 | May 31, 2018 | 480798
Tarrant (FEMA Docket No.: B-1816) | Town of Westlake (17-06-3364P) | The Honorable Laura Wheat, Mayor, Town of Westlake, 1500 Solana Boulevard, Building 7, Suite 7200, Westlake, TX 76262 | Planning and Development Department, 1500 Solana Boulevard, Building 7, Suite 7200, Westlake, TX 76262 | May 31, 2018 | 480614
Williamson (FEMA Docket No.: B-1816) | City of Leander (17-06-3902P) | The Honorable Christopher Fielder, Mayor, City of Leander, P.O. Box 319, Leander, TX 78646 | City Hall, 200 West Willis Street, Leander, TX 78641 | June 8, 2018 | 481536
Virginia:
Stafford (FEMA Docket No.: B-1810) | Unincorporated areas of Stafford County (17-03-2308P) | Mr. Thomas C. Foley, Stafford County Administrator, P.O. Box 339, Stafford, VA 22555 | Stafford County Department of Planning and Zoning, 1300 Courthouse Road, Stafford, VA 22554 | May 31, 2018 | 510154
Wise (FEMA Docket No.: B-1816) | City of Norton (18-03-0175P) | The Honorable William J. Mays, Mayor, City of Norton, P.O. Box 618, Norton, VA 24273 | City Hall, 618 Virginia Avenue Northwest, Norton, VA 24273 | June 6, 2018 | 510108
Wise (FEMA Docket No.: B-1816) | Unincorporated areas of Wise County (18-03-0175P) | Mr. Shannon C. Scott, Wise County Administrator, P.O. Box 570, Wise, VA 24293 | Wise County Building and Zoning Department, 206 East Main Street, Room 210, Wise, VA 24293 | June 6, 2018 | 510174

[FR Doc. 2018-15211 Filed 7-16-18; 8:45 am]

BILLING CODE 9110-12-P